DEPARTMENT OF THE INTERIOR

Bureau of Land Management

[ES-960-1910-BJ-4489] ES-50828, Group 30, Illinois

Notice of Filing of Plat of Survey; Illinois

The plat of the survey of the Lock and Dam No. 26 and the Locks and Dam No. 26 Replacement acquisition boundaries, in Township 5 North, Ranges 9 and 10 West of the 3rd Principal Meridian, Illinois, will be officially filed in Eastern States, Springfield, Virginia at 7:30 a.m., on November 9, 2000.

The survey was requested by the U.S. Army Corps of Engineers.

All inquiries or protests concerning the technical aspects of the survey must be sent to the Chief Cadastral Surveyor, Eastern States, Bureau of Land Management, 7450 Boston Boulevard, Springfield, Virginia 22153, prior to 7:30 a.m., November 9, 2000.

Copies of the plat will be made available upon request and prepayment of the appropriate fees.

Dated: September 25, 2000
Stephen G. Kopach,
Chief Cadastral Surveyor.

[FR Doc. 00-25763 Filed 10-5-00; 8:45 am]

BILLING CODE 4310-GJ-P